DEPARTMENT OF HEALTH AND HUMAN SERVICES

National Institutes of Health

Center for Scientific Review; Amended Notice of Meeting

Notice is hereby given of a change in the meeting of the Language and Communication Study Section, October 11, 2013, 8:00 a.m. to October 11, 2013, 6:00 p.m., Doubletree Hotel Washington, 1515 Rhode Island Ave. NW., Washington, DC 20005 which was published in the Federal Register on September 17, 2013, 78 FR 180 Pgs. 57169-57170.

The meeting will start on December 13, 2013 at 8:00 a.m. and will end on December 13, 2013 at 6:00 p.m. The meeting location remains the same. The meeting is closed to the public.

Dated: October 24, 2013.
Carolyn A. Baum,
Program Analyst, Office of Federal Advisory Committee Policy.

[FR Doc. 2013-25662 Filed 10-29-13; 8:45 am]

BILLING CODE 4140-01-P